DEPARTMENT OF ENERGY

Federal Energy Regulatory Commission

Combined Notice of Filings #1

September 04, 2008.

Take notice that the Commission received the following electric rate filings:

Docket Numbers: ER98-2783-015; ER05-1266-009; ER99-3822-015; ER01-140-011; ER07-842-005; ER99-4160-016; ER01-141-011; ER01-1044-012; ER99-2157-012; ER03-42-016.

Applicants: Ontelaunee Power Operating Company, LLC, CASCO BAY ENERGY COMPANY, LLC, Dynegy Power Marketing, Inc., Sithe/Independence Power Partners, L.P., BRIDGEPORT ENERGY LLC, Dynegy Danskammer, L.L.C., Dynegy Kendall Energy, LLC, Riverside Generating Company, LLC, Dynegy Roseton, LLC, Rocky Road Power, LLC.

Description: Updated Market Power Analysis re Bridgeport Energy, LLC et al.

Filed Date: 08/29/2008.

Accession Number: 20080829-5162.

Comment Date: 5 p.m. Eastern Time on Tuesday, October 28, 2008.

Docket Numbers: ER00-2508-003.

Applicants: Orion Power Midwest, L.P., Reliant Energy Mid-Atlantic Pwr Holdings.

Description: Reliant Energy Mid-Atlantic Power Holdings, LLC submits a Supplement to the June 30, 2008 Triennial Market Update.

Filed Date: 09/02/2008.

Accession Number: 20080902-5148.

Comment Date: 5 p.m. Eastern Time on Tuesday, September 23, 2008.

Docket Numbers: ER05-717-009; ER05-721-009; ER04-374-009; ER99-2341-011; ER06-230-006; ER06-1334-006; ER07-277-004; ER07-810-003.

Applicants: Spring Canyon Energy LLC; Judith Gap Energy LLC; Invernergy TN LLC; Hardee Power Partners Limited; Wolverine Creek Energy LLC; Spindle Hill Energy LLC; Invenergy Cannon Falls LLC; Grays Harbor Energy LLC.

Description: Spring Canyon Energy LLC et al. submits notification of change of status under market-based rate authority.

Filed Date: 08/28/2008.

Accession Number: 20080829-0113.

Comment Date: 5 p.m. Eastern Time on Thursday, September 18, 2008.

Docket Numbers: ER06-456-015; ER06-954-011; ER06-1271-010; ER07-424-006; EL07-57-003; ER06-880-011.

Applicants: PJM Interconnection, L.L.C.

Description: PJM Interconnection, LLC submits clean and redlined versions of the revised paragraph of the Offer of Settlement and Partial Settlement Agreement, in accordance with FERC's July 29, 2008 Order.

Filed Date: 08/29/2008.

Accession Number: 20080903-0078.

Comment Date: 5 p.m. Eastern Time on Friday, September 19, 2008.

Docket Numbers: ER06-1364-002.

Applicants: International Paper Company.

Description: Notice of Change in Status re International Paper Co.

Filed Date: 09/02/2008.

Accession Number: 20080902-5144.

Comment Date: 5 p.m. Eastern Time on Tuesday, September 23, 2008.

Docket Numbers: ER08-1094-002; ER08-1095-002; ER08-1097-002.

Applicants: NAEA Energy Massachusetts, LLC; NAEA Ocean Peaking Power, LLC; NAEA Rock Springs, LLC.

Description: NAEA Energy Massachusetts, LLC et al. submits revisions to their respective market-based rate tariffs, rate schedules and agreements under ER08-1094 et al.

Filed Date: 08/29/2008.

Accession Number: 20080903-0077.

Comment Date: 5 p.m. Eastern Time on Tuesday, September 9, 2008.

Docket Numbers: ER08-1477-000.

Applicants: Midwest Independent Transmission System Operator, Inc.

Description: Midwest Independent Transmission System Operator, Inc submits Large Generator Interconnection Agreement among American Transmission Company, LLC, Wisconsin Power and Light Co & Midwest ISO etc.

Filed Date: 08/29/2008.

Accession Number: 20080903-0109.

Comment Date: 5 p.m. Eastern Time on Friday, September 19, 2008.

Take notice that the Commission received the following open access transmission tariff filings:

Docket Numbers: OA07-11-004; OA07-33-003.

Applicants: Deseret Generation & Transmission Co-op.

Description: Order No. 890 OATT Compliance Filing re Deseret Generation & Transmission Co-operative, Inc. under OA07-11 et al.

Filed Date: 08/29/2008.

Accession Number: 20080829-5163.

Comment Date: 5 p.m. Eastern Time on Friday, September 19, 2008.

Docket Numbers: OA07-110-002.

Applicants: NorthWestern Corporation (South Dakota).

Description: NorthWestern Corporation (North Western) submits a substitute version of the Attachment K to its South Dakota Open Access Transmission Tariff, FERC Electric Tariff, Second Revised Volume 2 etc under OA07-110.

Filed Date: 08/29/2008.

Accession Number: 20080903-0076.

Comment Date: 5 p.m. Eastern Time on Friday, September 19, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E8-21560 Filed 9-15-08; 8:45 am]

BILLING CODE 6717-01-P